DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Maritime Administration (MARAD) published a 60-day notice and request for comments on this information collection in the Federal Register (69 FR 69668) on November 30, 2004, indicating comments should be submitted by January 31, 2005. One comment was received. The commenter asserted that no waivers should be given, except in the case of medically verified disability, and there is an obligation these students assume and they should pay it. In addition, the commenter indicated that taxpayers are burdened by the costs of this education and they deserve recompense. Also, the commenter asked how many students sought waivers last year and on what grounds.

46 CFR part 310 authorizes the Maritime Administrator to grant waivers in cases where there would be undue hardship or impossibility of performance of the provisions of the agreement, due to accident, illness or other justifiable reason. The regulation also allows for deferments in exceptional cases for entry into a maritime-related graduate course of study, or the graduate may seek approval to accept maritime-related shoreside employment after first seeking afloat employment. The Maritime Administration (MARAD) is cognizant of the obligation of graduates as we review waiver and deferral requests. In 2004, MARAD granted 18 employment determination requests for shoreside employment. These employment determinations were granted for maritime-related shoreside employment on the recommendation from the U. S. Merchant Marine Academy, only after the graduates diligently sought afloat employment and were unable to obtain it.

DATES: Comments must be submitted on or before April 6, 2005.

FOR FURTHER INFORMATION CONTACT: Rita Jackson, Maritime Administration, 400 7th Street SW., Washington, DC 20590. Telephone: (202) 366-0284; fax: (202) 366-7403; or e-mail: rita.jackson@marad.dot.gov. Copies of this collection also can be obtained from that office.

SUPPLEMENTARY INFORMATION: Maritime Administration (MARAD).

Title: Request for Waiver of Service Obligation, Request for Deferment of Service Obligation.

OMB Control Number: 2133-0510.

Type of Request: Extension of currently approved collection.

Affected Public: The respondents are students and graduates of the U.S. Merchant Marine Academy and subsidized students or graduates of the State Maritime Academies who request waivers of service obligations.

Forms: MA-935, MA-936 and MA-937.

Abstract: This information collection is essential for determining if a student or graduate of the U.S. Merchant Marine Academy, or subsidized student or graduate of a State maritime academy, has a waivable situation preventing them from fulfilling the requirements of a service obligation contract.

Annual Estimated Burden Hours: 9 hours.

ADDRESSES: Send comments to the Office of Information and Regulatory Affairs, Office of Management and Budget, 725 17th Street, NW., Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC on March 2, 2005
Joel C. Richard,
Secretary, Maritime Administration.

[FR Doc. 05-4359 Filed 3-4-05; 8:45 am]

BILLING CODE 4910-81-P